DEPARTMENT OF JUSTICE

Notice of Lodging of Proposed Consent Decree Under The Clean Air Act

On June 22, 2017, the Department of Justice lodged a proposed Consent Decree with the United States District Court for the Northern District of Ohio in the lawsuit entitled United States v. Lima Refining Company, Civil Action No. 3:17-cv-01320-JZ.

This Consent Decree resolves claims against Lima Refining Company with respect to violations of the Clean Air Act at Lima Refining's petroleum refinery located in Lima, Ohio. Coincidental with the entry of the Consent Decree we are also resolving claims for stipulated penalties for violations of a Consent Decree Addendum entered into with Lima Refining Company regarding this facility in 2007 involving the Facility (“2007 Addendum”).

The Consent Decree requires a penalty of $706,982. Moreover, Lima has to pay $293,018 ($146,509 to the State of Ohio and $146,509 to the United States) to resolve the Stipulated Penalty claims. Therefore, Lima Refining will pay a total of $1,000,000 in penalties. In addition, the Consent Decree requires that Lima Refining perform injunctive relief related to its leak detection and repair program, continuous emissions monitoring system, flare efficiency and minimization, and its sulfur recovery plant. Lima Refining will also will perform a lead paint abatement supplemental environmental project. In addition, as mitigation, Lima Refining will install oxygen enrichment at two of its sulfur recovery units, which will result in lower sulfur emissions.

The publication of this notice opens a period for public comment on the Consent Decree. Comments should be addressed to the Assistant Attorney General, Environment and Natural Resources Division, and should refer to United States v. Lima Refining Company, Civil Action No. 3:17-cv-01320-JZ, D.J. Ref. No. 90-5-2-1-06811/3. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $39.50 (25 cents per page reproduction cost) payable to the United States Treasury. For a paper copy without the appendices, the cost is $23.50.

Susan M. Akers,
Assistant Section Chief, Environmental Enforcement Section, Environment and Natural Resources Division.

[FR Doc. 2017-13622 Filed 6-28-17; 8:45 am]

BILLING CODE 4410-15-P